DEPARTMENT OF ENERGY

Orders Granting Authority To Import and Export Natural Gas, To Import and Export Liquefied Natural Gas, and Vacating Authority During March 2017

| FE Docket Nos.
Talisman Energy USA Inc | 15-117-NG
New England NG Supply Limited | 16-103-NG
RBC Energy Services, L.P | 17-26-NG
ST. Lawrence Gas Company, Inc | 17-27-NG
Dersa Oil & Gas Corporation | 17-16-NG
Gulf LNG Energy, L.L.C | 17-19-LNG
Puget Sound Energy, Inc | 17-24-NG
Nextera Energy Marketing, LLC and Nextera Energy Power Marketing, LLC | 17-25-NG
Koch Energy Services, LLC | 17-20-NG
Pilot Power Group, Inc | 17-28-NG
Maritimes & Northeast Pipeline, L.L.C | 17-29-NG
Chevron U.S.A., Inc | 16-141-LNG
Ferus Natural Gas Fuels Inc | 17-30-LNG
Excelerate Energy Gas Marketing, Limited Partnership | 17-31-LNG

AGENCY: Office of Fossil Energy, Department of Energy.

ACTION: Notice of orders.

SUMMARY: The Office of Fossil Energy (FE) of the Department of Energy gives notice that during March 2017, it issued orders granting authority to import and export natural gas, to import and export liquefied natural gas (LNG), and vacating authority. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on April 20, 2017.
John A. Anderson,
Director, Office of Regulation and International Engagement, Office of Oil and Natural Gas.

APPENDIX

DOE/FE Orders Granting Import/Export Authorizations
3701-A | 03/17/17 | 15-117-NG | Talisman Energy USA Inc | Order 3701-A vacating blanket authority to import/export natural gas from/to Canada.
3995 | 03/07/17 | 16-103-NG | New England NG Supply Limited | Order 3995 granting Long-term authority to export natural gas to Mexico.
3996 | 03/09/17 | 17-26-NG | RBC Energy Services, L.P | Order 3996 granting blanket authority to import/export natural gas from/to Canada.
3997 | 03/09/17 | 17-27-NG | St. Lawrence Gas Company, Inc | Order 3997 granting blanket authority to export natural gas to Canada.
3998 | 03/17/17 | 17-16-NG | Dersa Oil & Gas Corporation | Order 3998 granting blanket authority to export natural gas to Mexico.
4001 | 03/17/17 | 17-19-LNG | Gulf LNG Energy, L.L.C | Order 3984 granting blanket authority to import LNG from various international sources by vessel.
4002 | 03/17/17 | 17-24-NG | Puget Sound Energy, Inc | Order 4002 granting blanket authority to import/export natural gas from/to Canada, and vacating prior authority.
4003 | 03/20/17 | 17-25-NG | NextEra Energy Marketing, LLC and NextEra Energy Power Marketing, LLC | Order 4003 granting blanket authority to import/export natural gas from/to Canada/Mexico, and vacating prior authority.
4004 | 03/17/17 | 17-20-NG | Koch Energy Services, LLC | Order 4004 granting blanket authority to import/export natural gas from/to Canada, and vacating prior authority.
4005 | 03/17/17 | 17-28-NG | Pilot Power Group, Inc | Order 4005 granting blanket authority to import/export natural gas from/to Canada/Mexico.
4006 | 03/17/17 | 17-29-NG | Maritimes & Northeast Pipeline, L.L.C | Order 4006 granting blanket authority to import/export natural gas from/to Canada.
4007 | 03/28/17 | 16-141-LNG | Chevron U.S.A., Inc | Order 4007 granting blanket authority to export previously imported LNG to Non-free Trade Agreement Nations by vessel.
4008 | 03/31/17 | 17-30-LNG | Ferus Natural Gas Fuels Inc | Order 4008 granting blanket authority to import/export LNG from/to Canada by truck.
4009 | 03/31/17 | 17-31-LNG | Excelerate Energy Gas Marketing, Limited Partnership | Order 4009 granting blanket authority to import LNG from various international sources by vessel.

[FR Doc. 2017-08623 Filed 04-27-17; 8:45 am]

BILLING CODE 6450-01-P